DEPARTMENT OF COMMERCE

National Oceanic and Atmospheric Administration

50 CFR Part 648

[Docket No. 04011-2010-4114-02; I.D. 042407B]

RIN 0648-AN17

Magnuson-Stevens Fishery Conservation and Management Act Provisions; Fisheries of the Northeastern United States; Northeast (NE) Multispecies Fishery; Closure of the Eastern U.S./Canada Area

AGENCY: National Marine Fisheries Service (NMFS), National Oceanic and Atmospheric Administration (NOAA), Commerce.

ACTION: Temporary rule; closure.

SUMMARY: NMFS announces the closure of the Eastern U.S./Canada Area to limited access NE multispecies days-at-sea (DAS) vessels for the remainder of the 2006 fishing year (i.e., through April 30, 2007). Based upon Vessel Monitoring System (VMS) reports and other available information, the Administrator, Northeast Region, NMFS (Regional Administrator) has determined that 100 percent of the total allowable catch (TAC) of Georges Bank (GB) cod allocated to be harvested from the Eastern U.S./Canada Area will be harvested by April 25, 2007. This action is being taken to prevent the 2006 TAC for GB cod in the Eastern U.S./Canada Area from being exceeded during the 2006 fishing year in accordance with the regulations implemented under Amendment 13 to the NE Multispecies Fishery Management Plan and the Magnuson-Stevens Fishery Conservation and Management Act.

DATES: The closure of the Eastern U.S./Canada Area to all limited access NE multispecies DAS vessels is effective 0001 hr local time, April 25, 2007, through 2400 hr local time, April 30, 2007.

FOR FURTHER INFORMATION CONTACT: Mark Grant, Fishery Management Specialist, (978) 281-9145, fax (978) 281-9135.

SUPPLEMENTARY INFORMATION: Regulations governing fishing activity in the U.S./Canada Management Area are found at § 648.85. These regulations authorize vessels issued a valid limited access NE multispecies permit and fishing under a NE multispecies DAS to fish in the Eastern U.S./Canada Area under specific conditions. The final GB cod TAC allocation for the 2006 fishing year was specified at 374 mt (April 28, 2006; 71 FR 25095). Once 100 percent of the GB cod TAC allocation specified for the U.S./Canada Management Area is projected to have been harvested, the regulations at § 648.85(a)(3)(iv)(E) require the Regional Administrator to close access to the Eastern U.S./Canada Area for all limited access NE multispecies DAS vessels to prevent over-harvesting the TAC allocations for the U.S./Canada Management Area.

Based upon VMS daily catch reports, dealer reports, and other available information, the Regional Administrator has determined that 100 percent of the 2006 GB cod TAC of 374 mt will have been harvested on April 25, 2007. Therefore, based on the available information described above, to ensure that the TAC for GB cod will not be exceeded, the Eastern U.S./Canada Area is closed to all limited access NE multispecies DAS vessels for the remainder of the 2006 fishing year, effective April 25, 2007, pursuant to § 648.85(a)(3)(iv)(E). Vessels that have made a correct VMS declaration indicating the intention to fish in the Eastern U.S./Canada Area (VMS U.S./Canada Area Code 2), and crossed the demarcation line prior to 0001 hours on April 25, 2007, may continue their trip and fish in the Eastern U.S./Canada Area. Vessels that are currently declared into the Eastern U.S./Canada Area, and have already “flexed out” or “flexed west”, may not reenter the Eastern U.S./Canada Area after 0001 hours on April 25, 2007. Any vessel that leaves the Eastern U.S./Canada Area after 0001 hours on April 25, 2007, is prohibited from reentering the Eastern U.S./Canada Area for the remainder of the fishing year.

Classification

This action is required by 50 CFR part 648 and is exempt from review under Executive Order 12866.

Pursuant to 5 U.S.C. 553(b)(B) and (d)(3), the Assistant Administrator finds good cause to waive prior notice and opportunity for public comment, as well as the delayed effectiveness for this action, because notice, comment, and a delayed effectiveness would be impracticable and contrary to the public interest. This action will close the Eastern U.S./Canada Area to groundfish DAS vessels. This action is required by the regulations at § 648.85(a)(3)(iv)(E) and is non-discretionary. In addition, since 100 percent of the GB cod is projected to be harvested by April 25, 2007, there is insufficient time to allow for public notice, comment, and delayed effectiveness before 100 percent of the TAC will be harvested.

Given the increasing harvest rate and the small GB cod TAC specified for 2006, the time necessary to provide for prior notice, opportunity for public comment, or delayed effectiveness would prevent the agency from ensuring that the 2006 TAC for GB cod is not exceeded during the 2006 fishing year. It was not possible to take this action earlier to provide more time for public comment because of the increasing GB cod harvest rate, the small GB cod TAC, and the ability of NMFS to monitor the harvest (the projection that 100 percent of the GB cod TAC would be harvested by April 25, 2007, was not available until April 23, 2007). Exceeding the 2006 TAC for GB cod would increase mortality of this overfished stock beyond that evaluated during the development of Amendment 13, resulting in decreased revenue for the NE multispecies fishery, increased economic impacts to vessels operating in the Eastern U.S./Canada Area, a reduced chance of achieving optimum yield in the groundfish fishery, and unnecessary delays to the rebuilding of this overfished stock.

The public has been able to obtain information on the rate of harvest of the GB cod TAC via the Northeast Regional Office website (http://www.nero.noaa.gov) to provide at least some advanced notice of the harvest totals and potential action to prevent the TAC for GB cod from being exceeded during the 2006 fishing year. Further, the potential for this action was considered and open to public comment during the development of Amendment 13. Therefore, any negative effect the waiving of public comment and delayed effectiveness may have on the public is mitigated by these factors.

Authority: 16 U.S.C. 1801 et seq.

Dated: April 24, 2007.
James P. Burgess,
Acting Director, Office of Sustainable Fisheries, National Marine Fisheries Service.

[FR Doc. 07-2083 Filed 4-24-07; 2:49 pm]

BILLING CODE 3510-22-S